DEPARTMENT OF COMMERCE

National Oceanic and Atmospheric Administration

50 CFR Part 660

[Docket No. 220510-0113; RTID 0648-XC983]

Fisheries Off West Coast States; Modification of the West Coast Salmon Fisheries; Inseason Actions #51-#52

AGENCY: National Marine Fisheries Service (NMFS), National Oceanic and Atmospheric Administration (NOAA), Commerce.

ACTION: Inseason modification of 2022-2023 management measures.

SUMMARY: NMFS announces two inseason actions for the 2023 portion of the 2022 ocean salmon fishing season (May 16, 2022-May 15, 2023). These inseason actions modify the commercial salmon troll fisheries in the area from the U.S./Canada border to Cape Falcon, OR.

DATES: The effective date for these inseason actions are set out in this document under the heading Inseason Actions and the actions remain in effect until superseded or modified.

FOR FURTHER INFORMATION CONTACT: Shannon Penna at 562-980-4239, Email: Shannon.Penna@noaa.gov.

SUPPLEMENTARY INFORMATION:

Background

The annual management measures for the 2022 ocean salmon fisheries (87 FR 29690, May 16, 2022) govern the commercial and recreational fisheries in the area from the U.S./Canada border to the U.S./Mexico border, effective from 0001 hours Pacific Daylight Time (PDT), May 16, 2022, until the effective date of the 2023 management measures, as published in the Federal Register. NMFS is authorized to implement inseason management actions to modify fishing seasons and quotas as necessary to provide fishing opportunity while meeting management objectives for the affected species (50 CFR 660.409). Inseason actions in the salmon fishery may be taken directly by NMFS (50 CFR 660.409(a)—Fixed inseason management provisions) or upon consultation with the Chairman of the Pacific Fishery Management Council (Council), and the appropriate State Directors (50 CFR 660.409(b)—Flexible inseason management provisions).

Management of the salmon fisheries is divided into two geographic areas: north of Cape Falcon (NOF) (U.S./Canada border to Cape Falcon, OR), and south of Cape Falcon (Cape Falcon, OR, to the U.S./Mexico border). The action described in this document affects the NOF commercial salmon troll fisheries, as set out under the heading Inseason Actions below.

Consultation with the Council Chairperson on this inseason action occurred on April 18, 2023 and May 9, 2023. Representatives from NMFS, Washington Department of Fish and Wildlife, Oregon Department of Fish and Wildlife, California Department of Fish and Wildlife participated in these consultations. Representatives from the Salmon Advisory Subpanel and Salmon Technical Team were also present.

These inseason actions were announced on NMFS' telephone hotline and U.S. Coast Guard radio broadcast on the date of the consultations (50 CFR 660.411(a)(2)).

Inseason Actions

Inseason Action #51

Description of the action: Inseason action #51 modifies the ocean salmon troll commercial fishery from the U.S./Canada border to Cape Falcon, OR.

Effective dates: Inseason action #51 takes effect for the following areas and dates, and remains in effect until superseded.

• Effective May 1, 2023, at 12:01 a.m. the quota for the May-June fishery is modified to 26,000 Chinook salmon, no more than 6,890 of which may be caught in the area between the U.S./Canada border and the Queets River and no more than 6,040 of which may be caught in the area between Leadbetter Point and Cape Falcon.

• Effective May 1, 2023, at 12:01 a.m. the landing and possession limit for the entire area between the U.S./Canada border and Cape Falcon is 200 Chinook salmon per vessel for the period May 1, 2023, through May 10, 2023, and 150 Chinook salmon per vessel per landing week (Thursday-Wednesday) beginning May 11, 2023, at 12:01 a.m.

• Effective May 1, 2023, at 12:01 a.m. the landing and possession limit in the area between the U.S./Canada border and the Queets River is 105 Chinook per vessel for the period May 1, 2023, through May 10, 2023, and 70 Chinook salmon per vessel per landing week (Thursday-Wednesday) beginning May 11, 2023, at 12:01 a.m.

• Effective May 1, 2023, at 12:01 a.m. the landing and possession limit in the area between the Queets River and Leadbetter Point is 200 Chinook salmon per vessel for the period May 1, 2023, through May 10, 2023, and 150 Chinook salmon per vessel per landing week (Thursday-Wednesday) beginning May 11, 2023, at 12:01 a.m.

• Effective May 1, 2023, at 12:01 a.m. the landing and possession limit in the area between Leadbetter Point and Cape Falcon is 90 Chinook per vessel for the period May 1, 2023, through May 10, 2023, and 60 Chinook salmon per vessel per landing week (Thursday-Wednesday) beginning May 11, 2023, at 12:01 a.m.

• Effective May 1, 2023, at 12:01 a.m. vessels may not land salmon east of the Sekiu River or east of Tongue Point, Oregon.

Reason and authorization for the action: The 2022 annual management measures for ocean salmon fisheries (87 FR 29690, May 16, 2022) established a May-June commercial salmon fishery that included NOF subarea quotas that were based on information available at the time the 2022 management measures were adopted. The 2022 management measures allow for inseason action to adjust fisheries scheduled to occur from March 15, 2023, through May 15, 2023, in response to new information on 2023 salmon stock abundance forecasts and northern salmon fisheries impacts, to keep fisheries impacts within management objectives and consistent with conservation needs. In addition, the Council adopted a weekly landing and possession limit based on the calendar week (Thursday-Wednesday). Under the 2022 regulations, the fishery will open on May 1, 2023, with the week reduced to 3 days. Inseason action adjusts the landing and possession period to 10 days with a slightly higher landing limit that corresponds to the longer period (i.e., from May 1, 2023-May 3 to May 1, 2023-May 10 to match the full Thursday-Wednesday landing week).

The NMFS West Coast Regional Administrator (RA) considered the abundance forecasts for Chinook salmon stocks, the timing of the action relative to the length of the season, and determined that the inseason action described above is necessary to meet management and conservations goals set preseason. This inseason action modifies quotas and/or fishing seasons, and landing boundaries under 50 CFR 660.409(b)(1)(i) and (v).

Inseason Action #52

Description of the action: Inseason action #52 modifies the ocean salmon troll commercial fishery. The area between the U.S./Canada border and the Queets River (La Push and Neah Bay subareas) is closed.

Effective dates: Inseason action #52 took effect on May 11, 2023, at 12:01 a.m., and remains in effect until superseded.

Reason and authorization for the action: Inseason action #52 was necessary to not exceed the Chinook salmon guideline due to high Chinook salmon catch relative to the subarea quota for the U.S. area north of the Queets River and to preserve the length of the season. The RA considered the 2023 abundance forecasts for Chinook salmon stocks, the timing of the action relative to the length of the season, and determined that the inseason action described above is necessary to meet management and conservation goals set preseason. This inseason action modifies quotas and/or fishing seasons under 50 CFR 660.409(b)(1)(i).

All other restrictions and regulations remain in effect as announced for the 2022 ocean salmon fisheries (87 FR 29690, May 16, 2022), as modified by previous inseason actions (87 FR 41260, July 12, 2022; 87 FR 49534, August 11, 2022; 87 FR 52353, August 25, 2022; 87 FR 54171, September 2, 2022; 87 FR 60105, October 4, 2022; 87 FR 66609, November 4, 2022; 88 FR 21113, April 10, 2023).

The RA determined that these inseason actions were warranted based on the best available information on Pacific salmon abundance forecasts, landings to date, anticipated fishery effort and projected catch, and the other factors and considerations set forth in 50 CFR 660.409. The states and tribes manage the fisheries in state waters adjacent to the areas of the U.S. exclusive economic zone (3-200 nautical miles; 5.6-370.4 kilometers) off the coasts of the states of Washington, Oregon, and California consistent with these Federal actions. As provided by the inseason notice procedures at 50 CFR 660.411, actual notice of the described regulatory actions was given, prior to the time the actions became effective, by telephone hotline numbers 206-526-6667 and 800-662-9825, and by U.S. Coast Guard Notice to Mariners broadcasts on Channel 16 VHF-FM and 2182 kHz.

Classification

NMFS issues these actions pursuant to section 305(d) of the Magnuson-Stevens Fishery Conservation and Management Act (MSA). These actions are authorized by 50 CFR 660.409, which was issued pursuant to section 304(b) of the MSA, and is exempt from review under Executive Order 12866.

Pursuant to 5 U.S.C. 553(b)(3)(B), there is good cause to waive prior notice and an opportunity for public comment on this action, as notice and comment would be impracticable and contrary to the public interest. Prior notice and opportunity for public comment on this action was impracticable because NMFS had insufficient time to provide for prior notice and the opportunity for public comment between the time Chinook and coho salmon abundance, catch, and effort information were developed and fisheries impacts were calculated, and the time the fishery modifications had to be implemented in order to ensure that fisheries are managed based on the best scientific information available. As previously noted, actual notice of the regulatory action was provided to fishers through telephone hotlines and radio notifications. These actions comply with the requirements of the annual management measures for ocean salmon fisheries (87 FR 29690, May 16, 2022), the Pacific Salmon Fishery Management Plan (FMP), and regulations implementing the FMP under 50 CFR 660.409 and 660.411.

There is good cause under 5 U.S.C. 553(d)(3) to waive the 30-day delay in effective date, as a delay in effectiveness of this action would allow fishing at levels inconsistent with the goals of the FMP and the current management measures.

Authority: 16 U.S.C. 1801 et seq.

Dated: June 5, 2023.
Jennifer M. Wallace,
Acting Director, Office of Sustainable Fisheries, National Marine Fisheries Service.

[FR Doc. 2023-12237 Filed 6-7-23; 8:45 am]

BILLING CODE 3510-22-P